DEPARTMENT OF HEALTH AND HUMAN SERVICES

Health Resources and Services Administration

Response to Solicitation of Comments on Professional Organizations and State Governments Requirements for Poison Control Center Certification

A notice was published in the Federal Register by the Health Resources and Services Administration (HRSA) on April 8, 2005 (Volume 70, No. 67 pp. 18036-18037), soliciting public comment regarding the guidelines by which the Secretary shall approve professional organizations and State governments as having in effect standards for Poison Control Center (PCC) certification. Respondents were asked to submit recommended guidelines for approving professional organizations and State governments' standards per Public Law 108-194 section 1273 (c). Written comments were to be post marked no later than June 5, 2005 for consideration.

The HRSA was seeking comment on the following issues:

1. Modeling the guidelines after certification requirements that are currently being used to certify PCCs;

2. Elements of approval that the guidelines should include and justification of the elements;

3. Guidelines applying to all State governments;

4. Guidelines applying to all professional organizations; and

5. Inclusion or re-certification as an element of certification.

Fifty-two (52) comments were received. Fifty-one (51) comments were submitted by poison control centers (PCCs), 15 of which came from the same center. All of the poison centers are members of the American Association of Poison Control Centers (AAPCC) and certified by this association. One (1) comment was also submitted from a professional organization whose membership includes staff from poison control centers. Following is a summary of the comments received and the HRSA's recommendations.

While the HRSA did not receive any specific comments on the issues requested in the Federal Register Notice sited above, 50 comments indicated a strong advisement for the HRSA to continue to accept the present certification process instituted by the AAPCC as the single certifying body for poison control centers. These respondents concurred that the current certification structure is “fair, cost-efficient and already subscribed to by nearly all of poison centers in the United States.” Additional responses concluded that resources used to develop, implement and maintain a new certification process would be duplicative and costly. Comments also suggested that the current certification process is used as a mechanism to maintain quality poison prevention education and treatment services.

The legislation does not call for the HRSA to change the certification process, but does require the Secretary to approve standards for certification. Therefore, the HRSA was seeking public comment on what guidelines the HRSA should use for approving professional organizations and State governments' standards for certification.

Of these 50 comments, an additional response indicated that if a State certification system were to be developed it should meet or exceed the certification criteria established by the AAPCC. There was one commenter in support of a State certification process. This commenter indicated that many States currently determine the healthcare standards of their residents and have the ability to employ certification standards for PCCs. In this response, it was also communicated that a State certification process should be developed and modeled after the current certification process with the exception of the requirement “for nurse/pharmacist certification through AAPCC.”

From the comments received, there is consensus support for the AAPCC certification program. The guidelines by which the Secretary shall approve a professional organization and/or State government as having standards for certification will be that any certification program must meet or exceed current certification standards being used by AAPCC to certify PCCs.

Send comments to Maxine Jones, HRSA, HSB, Division of Healthcare Preparedness, Healthcare Systems Bureau, Room 13-103, 5600 Fishers Lane, Rockville, MD 20857. Comments should be received within 60 days of this notice.

Dated: November 28, 2006.
Elizabeth M. Duke,
Administrator.

[FR Doc. E6-20564 Filed 12-4-06; 8:45 am]

BILLING CODE 4165-15-P